DEPARTMENT OF THE TREASURY

Departmental Offices; Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)).

Currently, the Office of Financial Stability (OFS) is soliciting comments concerning the banks and thrifts, banks and thrifts exchange, and credit union applications for the Community Development Capital Initiative.

DATES: Written comments should be received on or before June 11, 2010 to be assured of consideration.

ADDRESSES: Direct all written comments to Department of the Treasury, Daniel Abramowitz, 1500 Pennsylvania Avenue, NW., Washington, DC 20220; (202) 927-9645.

FOR FURTHER INFORMATION CONTACT: Requests for additional information or copies of the form(s) and instructions should be directed as above.

SUPPLEMENTARY INFORMATION: Title: Troubled Asset Relief Program (TARP)—Community Development Capital Initiative (CDCI).

OMB Control Number: 1505-0223.

Abstract: Authorized under the Emergency Economic Stabilization Act (EESA) of 2008 (Pub. L. 110-343), the Department of the Treasury is implementing several aspects of the Troubled Asset Relief Program. The statute provides the Secretary broad authority to purchase and insure mortgage assets, and to purchase any other financial instrument that the Secretary, in consultation with the Federal Reserve Chairman, determines necessary to stabilize our financial markets—including equity securities. The TARP is comprised of several components including a voluntary Community Development Capital Initiative (CDCI) under which the Department may purchase qualifying assets from U.S. banking organizations that are certified Community Development Financial Institutions (CDFI). Treasury, through Federal banking and credit union agencies, is seeking applicant information for financial institutions that seek participation in the CDCI.

Eligible institutions include bank holding companies, financial holding companies, insured depository institutions, credit unions, and savings and loan holding companies that engage solely or predominately in activities that are permissible for financial holding companies under relevant law. To qualify, the applicant must be established and operating in the United States and may not be controlled by a foreign bank or company, and must be a certified CDFI. Additionally, CDFIs that have participated in and have outstanding obligations under the TARP Capital Purchase Program (CPP) may apply to request an exchange of securities purchased under CPP by Treasury, for securities to be issued to Treasury under the CDCI. Eligibility to participate in the CDCI solely for purposes of exchanging outstanding obligations under CPP shall occur without regard to whether the institution seeks to participate in the CDCI for purposes of receiving additional capital. Institutions seeking additional capital under the CDCI shall submit a separate application for that purpose.

The application information will be used to determine eligibility and participation in the CDCI.

Type of Review: Extension without change to a currently approved information collection.

Affected Public: Private sector: Businesses or other for-profits.

Estimated Number of Respondents: 200.

Estimated Total Annual Burden Hours: 400 hours.

Comments submitted in response to this notice will be summarized and included in the request for OMB approval. All comments will become a matter of public record. Comments are invited on: (a) Whether the collection of information is necessary for the proper performance of the functions of the agency, including whether the information shall have practical utility; (b) the accuracy of the agency's estimate of the burden of the collection of information including the validity of the methodology and assumption used; (c) ways to enhance the quality, utility, and clarity of the information to be collected; (d) ways to minimize the burden of the collection of information on respondents, including through the use of automated collection techniques or other forms of information technology; and (e) estimates of capital or start-up costs and costs of operation, maintenance, and purchase of services to provide information.

Dated: April 5, 2010.
Daniel Abramowitz,
Office of Financial Stability PRA Program Officer.

[FR Doc. 2010-8202 Filed 4-9-10; 8:45 am]

BILLING CODE 4810-25-P